DEPARTMENT OF ENERGY

Federal Energy Regulatory Commission

[Project No. 15392-000]

HGE Energy Storage 9, LLC; Notice of Preliminary Permit Application Accepted for Filing and Soliciting Comments, Motions To Intervene, and Competing Applications

On January 21, 2025, HGE Energy Storage 9, LLC, filed an application for a preliminary permit, pursuant to section 4(f) of the Federal Power Act (FPA), proposing to study the feasibility of the Whiskeytown Lake Pumped Storage Project to be located in Shasta County, California, adjacent to Whiskeytown Lake (reservoir), approximately 10 miles northwest of the city of Redding. The proposed project would occupy federal land managed by the National Park Service and the Bureau of Reclamation. The sole purpose of a preliminary permit is to grant the permit holder priority to file a license application during the permit term. A preliminary permit does not authorize the permit holder to perform any land-disturbing activities or otherwise enter upon lands or waters owned by others without the owners' express permission.

The proposed pumped storage hydropower project would consist of: (1) the existing Whiskeytown Lake as a lower reservoir; (2) a new upper reservoir with a surface area of 36 acres and a storage volume of 3,600 acre-feet at a maximum water-surface elevation of 2,550 feet mean sea level (msl); (3) six 14,000-foot-long, 10-foot-diameter steel-lined penstocks to connect the reservoir to the powerhouse; (4) a 250-foot-long, 75-foot-wide, 100-foot-high, steel-reinforced concrete powerhouse constructed 100 feet below ground level, with six 200-megawatt (MW) reversible variable-speed pump-turbines, with a combined installed capacity of 1,200-MW; (5) a 100-foot-high, 30-foot-wide vertical access tunnel from ground level to the powerhouse; (6) a vertical intake structure to lead to the tailrace 100 feet below msl; (7) a 350-foot-long, 300-foot-wide concrete-lined tailrace; and (7) a 1.5-mile-long, 230-kilovolt line extending from the powerhouse to a planned AC-DC converter station. The estimated annual energy production of the project would be approximately 3,500,000 megawatt-hours.

Applicant Contact: Mr. Wayne Krouse, HGE Energy Storage 4 LLC, 2901 4th Avenue South #B 253, Birmingham, AL 35233; email: wayne@hgenergy.com; phone: (877) 556-6566.

FERC Contact: Shannon Archuleta; email; shannon.archuleta@ferc.gov; phone (503) 552-2739.

Deadline for filing comments, motions to intervene, competing applications (without notices of intent), or notices of intent to file competing applications: on or before 5:00 p.m. Eastern Time on March 30, 2026. Competing applications and notices of intent must meet the requirements of 18 CFR 4.36.

For public inquiries and assistance with making filings such as interventions, comments, or requests for rehearing, contact the Office of Public Participation at (202)502-6595 or OPP@ferc.gov.

The Commission strongly encourages electronic filing. Please file comments, motions to intervene, notices of intent, and competing applications using the Commission's eFiling system at https://ferconline.ferc.gov/FERC.aspx. Commenters can submit brief comments up to 6,000 characters without prior registration using the eComment system at https://ferconline..gov/QuickComment.aspx. For assistance, please contact FERC Online Support at FERCOnlineSupport@ferc.gov, (866) 208-3676 (toll-free), or (202) 502-8659 (TTY). Instead of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-15392-000.

More information about this project, including a copy of the application, can be viewed on the Commission's website (http://www.ferc.gov) using the “eLibrary” link. Enter the docket number (P-15392) in the docket number field to access the document. For assistance, do not hesitate to get in touch with FERC Online Support.

(Authority: 18 CFR 2.1)

Dated: January 27, 2026.
Debbie-Anne A. Reese,
Secretary.

[FR Doc. 2026-01925 Filed 1-29-26; 8:45 am]

BILLING CODE 6717-01-P